DEPARTMENT OF AGRICULTURE

Food and Nutrition Service

Agency Information Collection Activities: Proposed Collection; Comment Request; WIC Farmers' Market Nutrition Program (FMNP) Financial Report (Form FNS-683); WIC Farmers' Market Nutrition Program Recipient Report (Form FNS-203); and WIC Farmers' Market Nutrition Program Regulations

AGENCY: Food and Nutrition Service (FNS), USDA.

ACTION: Notice.

SUMMARY: In accordance with the Paperwork Reduction Act of 1995, this notice announces the intention of FNS to request revisions to currently approved information collections, Form FNS-683 and Form FNS-203.

DATES: Written or faxed comments on this notice must be received by November 13, 2001.

ADDRESSES: Comments are invited on: (a) Whether the proposed collection of information is necessary for the proper performance of the functions of the agency, including whether the information will have practical utility; (b) the accuracy of the agency's estimate of the burden of the proposed collection of information, including the validity of the methodology and assumptions used; (c) ways to enhance the quality, utility and clarity of the information to be collected; and (d) ways to minimize the burden of the collection of information on those who are to respond, including through the use of appropriate automated, electronic, mechanical, or other technological collection techniques or other forms of information technology.

Comments may be sent to: Patricia N. Daniels, Director, Supplemental Food Programs Division, Food and Nutrition Service, U.S. Department of Agriculture, 3101 Park Center Drive, Alexandria, VA 22302. Comments may also be faxed to the attention of Patricia N. Daniels at (703) 305-2196.

All written comments will be open for public inspection at the office of the Food and Nutrition Service during regular business hours (8:30 a.m. to 5:00 p.m., Monday through Friday) at 3101 Park Center Drive, Alexandria, Virginia 22302, Room 1414.

All responses to this notice will be summarized and included in the request for OMB approval, and will become a matter of public record.

FOR FURTHER INFORMATION CONTACT: Requests for additional information or copies of the information collection form and instructions should be directed to: Debra Whitford, (703) 305-2746.

SUPPLEMENTARY INFORMATION: Title: The WIC Farmers' Market Nutrition Program Financial Report (Form FNS-683); WIC Farmers' Market Nutrition Program Recipient Report (Form FNS-203); and WIC Farmers' Market Nutrition Program Regulations.

OMB Number: 0584-0447.

Form Numbers: Form FNS-683, Form FNS-203, and FMNP regulations.

Expiration Date: October 31, 2001.

Type of Request: Revision to a Currently Approved Collection Form.

Abstract: Pursuant to Section 17(m)(8) of the Child Nutrition Act of 1966, 42 U.S.C. § 1786(m)(8), 7 CFR 248.23 of the WIC Farmers' Market Nutrition Program (FMNP) regulations requires that certain Program-related information be compiled and submitted to FNS. Each State agency administering the FMNP is required to use FNS-683 and FNS-203 to report financial and participation data to the Secretary as required by 7 CFR Part 3016. FNS will use this information for funding and program management decisions. Based on the previous submission of reporting and recordkeeping requirements for the FMNP, 35 State agencies were operating the program. However, currently 41 State agencies operate the FMNP. No new program requirements have been added to change or increase the number of hours per response. Therefore, based on an increase in respondents, a revision to the reporting and recordkeeping burden is necessary.

Respondents: State Directors or Administrators of the FMNP.

Estimated Number of Respondents: 41 respondents for FNS Forms and 2009 for FMNP Regulations.

Number of Responses per Respondent: 2.

Form FNS-683

Number of Responses per Respondent: One.

Estimated Time per Response: 3 hours.

Total Reporting Burden: 41 × 1 × 3 = 123 hours.

Form FNS-203

Number of Responses per Respondent: One.

Estimated Time per Response: 1 hour.

Total Reporting Burden: 41 × 1 × 1 = 41 hours.

FMNP Regulations

Reporting Burden

Estimated Number of Respondents: 2009.

Estimated Number of Responses per Respondent: One.

Estimated Time per Response: 2.2205 hours.

Total Reporting Burden: 2009 × 1 × 2.2205 = 4461 hours.

Recordkeeping Burden

Estimated Number of Respondents: 41.

Estimated Number of Responses per Respondent: 4.

Estimated Time per Recordkeeping: 1.75 hours.

Total Recordkeeping Burden: 41 × 4 × 1.75 = 287 hours.

Total Reporting and Recordkeeping Burden: 123 + 41 + 4461 + 287 = 4912 hours.

These requirements, together with the financial and recipient reporting requirements give an overall total of 80.5 hours per response. These totals include the time for reviewing instructions, searching existing data sources, gathering and maintaining the data needed, and completing and reviewing the collection of information. As noted above, these hours remain unchanged from the previous submission.

Estimated Total Annual Burden on Respondents: 4912 hours.

Dated: September 7, 2001.
George A. Braley,
Acting Administrator, Food and Nutrition Service.

BILLING CODE 3410-30-U

[FR Doc. 01-22980 Filed 9-12-01; 8:45 am]

BILLING CODE 3410-30-C